ENVIRONMENTAL PROTECTION AGENCY

40 CFR Part 50

[FRL-7128-3]

National Ambient Air Quality Standards for Ozone: Proposed Response to Remand

AGENCY: Environmental Protection Agency (EPA).

ACTION: Extension of public comment period.

SUMMARY: The EPA is announcing a 30-day extension of the public comment period on the proposed response to the United States Court of Appeals for the District of Columbia Circuit (D.C. Circuit) remand of the national ambient air quality standards (NAAQS) for ozone (O3) that was published on November 14, 2001 (66 FR 57268). The proposal responded to the D.C. Circuit remand of the O3 NAAQS to EPA to consider any beneficial health effects of O3 pollution in shielding the public from the “harmful effects of the sun's ultraviolet rays.” 175 F. 3d 1027 (D.C. Cir. 1999).

DATES: Comments on the proposed response to the remand must be received by February 13, 2002.

ADDRESSES: Submit written comments (in duplicate if possible) on this proposed response to: Air and Radiation Docket and Information Center (6102), Attn: Docket No. A-95-58, U.S. Environmental Protection Agency, 1200 Pennsylvania Ave., NW, Washington, DC 20460. Electronic comments are encouraged and can be sent directly to EPA at: A-and-R-Docket@epa.gov. Comments will also be accepted on disks in WordPerfect in 8.0/9.0 file format. All comments in electronic form must be identified by the docket number, Docket No. A-95-58.

FOR FURTHER INFORMATION CONTACT: Susan Lyon Stone, Office of Air Quality Planning and Standards, U.S. Environmental Protection Agency (C539-01), Research Triangle Park, NC 27711; e-mail stone.susan@epa.gov; telephone (919) 541-1146.

SUPPLEMENTARY INFORMATION: The EPA received a request for an extension of the original 60 day comment period. The commenter requested additional time to prepare comments because part of the comment period overlapped with the seasonal holidays. In response to this request, EPA is extending the comment period by 30 days to allow additional time for the public to prepare comments.

List of Subjects in 40 CFR Part 50

Environmental protection, Air pollution control, Carbon monoxide, Lead, Nitrogen dioxide, Ozone, Particulate matter, Sulfur oxides.

Dated: January 7, 2002.
Robert D. Brenner,
Principal Deputy Assistant Administrator for Air and Radiation.

[FR Doc. 02-700 Filed 1-10-02; 8:45 am]

BILLING CODE 6560-50-P